DEPARTMENT OF COMMERCE

International Trade Administration

[A-583-839]

Notice of Final Determination of Sales at Less Than Fair Value: Certain Cold-Rolled Carbon Steel Flat Products From Taiwan

AGENCY: Import Administration, International Trade Administration, Department of Commerce.

EFFECTIVE DATE: October 3, 2002.

FOR FURTHER INFORMATION CONTACT: Magd Zalok at (202) 482-4162, or Martin Claessens at (202) 482-5451, Office of AD/CVD Enforcement V, Group II, Import Administration, International Trade Administration, U.S. Department of Commerce, 14th Street and Constitution Avenue, NW, Washington, DC 20230.

The Applicable Statute and Regulations

Unless otherwise indicated, all citations to the statute are references to the provisions effective January 1, 1995, the effective date of the amendments made to the Tariff Act of 1930 (the Act) by the Uruguay Round Agreements Act (URAA). In addition, unless otherwise indicated, all citations to the Department of Commerce (Department) regulations are to the regulations at 19 CFR part 351 (April 2002).

Final Determination

We determine that certain cold-rolled carbon steel flat products (cold-rolled steel) from Taiwan are being, or are likely to be, sold in the United States at less than fair value (LFTV), as provided in section 735 of the Act. The estimated margins of sales at LTFV are shown in the Continuation of Suspension of Liquidation section of this notice.

Case History

On May 9, 2002, the Department published its preliminary determination in the above-captioned antidumping duty investigation. See Notice of Preliminary Determination of Sales at Less Than Fair Value and Postponement of Final Determination: Certain Cold-Rolled Carbon Steel Flat Products from Taiwan, 67 FR 31255 (May 9, 2002) (Preliminary Determination). Since the preliminary determination, the following events have occurred. In May and June 2002, the Department verified the responses submitted by the sole participating respondent in this investigation, China Steel Corporation (CSC) and Yieh Loong Enterprise Co., Ltd (YL) (collectively CSC/YL). On August 29, 2002, we received case briefs from the petitioners ¹ and CSC/YL. On September 4, 2002, we received rebuttal briefs from the petitioners and the respondent. A public hearing was not requested.

¹ The petitioners in this investigation are Bethlehem Steel Corporation, LTV Steel Company, Inc., Nucor Corporation, Steel Dynamics, Inc., United States Steel Corporation, WCI Steel, Inc., and Weirton Steel Corporaiton (collectively, the petitioners).

With respect to scope, in the preliminary LTFV determinations in this and the companion cold-rolled steel investigations, the Department preliminarily excluded certain porcelain enameling steel from the scope of these investigations. See Scope Appendix to the Notice of Preliminary Determination of Sales at Less Than Fair Value: Certain Cold-Rolled Carbon Steel Flat Products from Argentina, 67 FR 31181 (May 9, 2002) (Scope Appendix—Argentina Preliminary LTFV Determination). On June 13, 2002, we issued a preliminary decision on the remaining 75 scope exclusion requests filed in a number of the on-going cold-rolled steel investigations (see the June 13, 2002, memorandum regarding “Preliminary Scope Rulings in the Antidumping Investigations on Certain Cold-Rolled Carbon Steel Flat Products from Argentina, Australia, Belgium, Brazil, France, Germany, India, Japan, Korea, the Netherlands, New Zealand, the People's Republic of China, the Russian Federation, South Africa, Spain, Sweden, Taiwan, Thailand, Turkey, and Venezuela, and in the Countervailing Duty Investigations of Certain Cold-Rolled Carbon Steel Flat Products from Argentina, Brazil, France, and Korea” (Preliminary Scope Rulings), which is on file in the Department's Central Records Unit (CRU), room B-099 of the main Department building. We gave parties until June 20, 2002, to comment on the preliminary scope rulings, and until June 27, 2002, to submit rebuttal comments. We received comments and/or rebuttal comments from petitioners and respondents from various countries subject to these investigations of cold-rolled steel. In addition, on June 13, 2002, North American Metals Company (an interested party in the Japanese proceeding) filed a request that the Department issue a “correction” for an already excluded product. On July 8, 2002, the petitioners objected to this request.

At the request of multiple respondents, the Department held a public hearing with respect to the Preliminary Scope Rulings on July 1, 2002. The Department's final decisions on the scope exclusion requests are addressed in the Scope of Investigation section below.

Scope of Investigation

For purposes of this investigation, the products covered are certain cold-rolled (cold-reduced) flat-rolled carbon-quality steel products. A full description of the scope of this investigation is contained in the Scope Appendix attached to the Notice of Correction to Final Determination of Sales at Less Than Fair Value: Certain Cold-Rolled Carbon Steel Flat Products from Australia, 67 FR 52934 (Aug. 14, 2002). For a complete discussion of the comments received on the Preliminary Scope Rulings, see the Issues and Decision Memorandum for the Final Scope Rulings in the Antidumping Duty Investigations on Certain Cold-Rolled Carbon Steel Flat Products from Argentina, Australia, Belgium, Brazil, France, Germany, India, Japan, Korea, the Netherlands, New Zealand, the People's Republic of China, the Russian Federation, South Africa, Spain, Sweden, Taiwan, Thailand, Turkey, and Venezuela, and in the Countervailing Duty Investigations of Certain Cold-Rolled Carbon Steel Flat Products from Argentina, Brazil, France, and Korea, dated July 10, 2002, which is on file in CRU.

Period of Investigation

The period of investigation (POI) is July 1, 2000, through June 30, 2001. This period corresponds to the four most recent fiscal quarters prior to the month of the filing of the petition (i.e., September 2001).

Verification

As provided in section 782(i) of the Act, we conducted verification of the cost and sales information submitted by the respondent. We used standard verification procedures including examination of relevant accounting and production records, and original source documents provided by the respondent.

Analysis of Comments Received

All issues raised in the case and rebuttal briefs by parties to this antidumping proceeding are listed in the appendix to this notice and addressed in the Issues and Decision Memorandum (Decision Memorandum) dated September 23, 2002, which is hereby adopted by this notice. The Decision Memorandum is on file in the CRU. In addition, a complete version of the Decision Memorandum can be accessed directly on the World Wide Web at http://ia.ita.doc.gov/frn/. The paper and electronic versions of the Decision Memorandum are identical in content.

Changes Since the Preliminary Determination

Based on our findings at verification, and analysis of comments received, we have made adjustments in calculating the final dumping margin in this proceeding. These adjustments to the dumping margin are discussed in the Decision Memorandum for this investigation.

Use of Facts Available

In the Preliminary Determination, the Department applied total adverse facts available to the mandatory respondents, Kao Hsing Chang Iron & Steel Corporation (Kao Hsing), and Ton Yi Industrial Corporation (Ton Yi) because these two respondents failed to respond to the Department's questionnaire and instead chose not to participate in the investigation. As a result, the Department assigned Kao Hsing and Ton Yi the rate of 16.80 percent, the highest rate derived from the petition. See Initiation Notice. The interested parties did not object to the use of adverse facts available, or to the Department's choice of facts available. For this final determination, we are continuing to apply the same margin based on total adverse facts available to Kao Hsing and Ton Yi.

Critical Circumstances

In its preliminary determination of this investigation, the Department found that there was no history of dumping and material injury for cold-rolled steel imports from Taiwan. The Department also determined that the threshold to impute importer knowledge of sales at LTFV (i.e., an antidumping margin of 25 percent or more for EP sales) was not met due to the fact that: (a) The preliminary margin calculated for CSC/YL was 3.15 percent; (b) the margin relied upon for the initiation of this investigation, and assigned to the non-responding companies (i.e., Kao Hsing and Ton Yi), as adverse facts available, was 16.80 percent, which was based on an analysis conducted by the petitioners with the understanding that cold-rolled steel from Taiwan is sold to unaffiliated trading companies for export to the United States; and (c) it is the Department's practice to conduct its critical circumstances analysis of companies in the “All Others” category based on the experience of the investigated companies. Therefore, the Department assigned the “All Others” category the same rate as was calculated for CSC/YL.

Given that Taiwan had no history of dumping, and that the threshold to impute importer knowledge of sales at LTFV was not met, the Department preliminarily found no critical circumstances for Taiwan in this investigation. For further details, see Preliminary Determination.

Since the preliminary determination, we received no comments from the petitioners or the respondent regarding our preliminary finding that critical circumstances do not exist for imports of cold-rolled steel from Taiwan. Moreover, the margin calculated for CSC/YL for purposes of the final determination of this investigation continues to be less than 25 percent, the threshold for imputing knowledge of sales at LTFV. Therefore, we have not changed our determination and continue to find that critical circumstances do not exist for imports of cold-rolled steel from Taiwan.

Continuation of Suspension of Liquidation

Pursuant to section 735(c)(1)(B) of the Act, we are instructing the U.S. Customs Service (Customs) to continue to suspend liquidation of all imports of cold-rolled steel from Taiwan that are entered, or withdrawn from warehouse, for consumption on or after May 9, 2002 (the date of publication of the preliminary determination in the Federal Register). Customs shall continue to require a cash deposit or the posting of a bond equal to the estimated amount by which the normal value exceeds the U.S. price as shown below. The suspension of liquidation instructions will remain in effect until further notice.

We determine that the following weighted-average dumping margins exist for Taiwan:

Manufacturer/exporter | Margin (percent)
China Steel Corp./Yieh Loong | 4.02
Kao Hsing Chang Iron & Steel | 16.80
Ton Yi Industrial | 16.80
All Others | 4.02

ITC Notification

In accordance with section 735(d) of the Act, we have notified the ITC of our determination. As our final determination is affirmative, the ITC will determine, within 45 days, whether these imports are causing material injury, or threat of material injury, to an industry in the United States. If the ITC determines that material injury, or threat of injury does not exist, the proceeding will be terminated and all securities posted will be refunded or cancelled. If the ITC determines that such injury does exist, the Department will issue an antidumping duty order directing Customs officials to assess antidumping duties on all imports of the subject merchandise entered, or withdrawn from warehouse, for consumption on or after the effective date of the suspension of liquidation.

Notification Regarding Administrative Protective Order (APO)

This notice also serves as a reminder to parties subject to APO of their responsibility concerning the disposition of proprietary information disclosed under APO in accordance with 19 CFR 351.305. Timely notification of return/destruction of APO materials or conversion to judicial protective order is hereby requested. Failure to comply with the regulations and the terms of an APO is a sanctionable violation.

This determination is issued and published in accordance with sections 735(d) and 777(i)(1) of the Act.

Dated: September 23, 2002.
Faryar Shirzad,
Assistant Secretary for Import Administration.

Appendix—Issues Covered in Decision Memorandum

I. Issues Specific to Sales

Comment 1: Leeway Sales

Comment 2: Model Match Criteria

I. Issues Specific to Costs

Comment 3: Product-specific Costs

Comment 4: Scrap and By-Product Offset

Comment 5: Interest Expense

Comment 6: G&A Expense

[FR Doc. 02-24786 Filed 10-2-02; 8:45 am]

BILLING CODE 3510-DS-P